FEDERAL COMMUNICATIONS COMMISSION

47 CFR Part 64

Miscellaneous Rules Relating to Common Carriers

CFR Correction

In Title 47 of the Code of Federal Regulations, parts 40 to 69, revised as of Oct. 1, 2000, in § § 64.2103, 64.2104 and 64.2105 remove the effective date note.

[FR Doc. 01-55520 Filed 7-12-01; 8:45 am]

BILLING CODE 1505-01-D